ENVIRONMENTAL PROTECTION AGENCY

[FRL-8212-1]

Agency Information Collection Activities: OMB Responses

AGENCY: Environmental Protection Agency (EPA).

ACTION: Notice.

SUMMARY: This document announces the Office of Management and Budget's (OMB) response to Agency Clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 1633.14; Acid Rain Program Under Title IV of the CAA Amendments of 1990 (Renewal); in 40 CFR parts 72, 73 subparts C-G, and parts 74-78; was approved 07/27/2006; OMB Number 2060-0258; expires 07/31/2009.

Short Term Extensions

EPA ICR No. 1569.05; Approval of State Coastal Nonpoint Pollution Control Programs (CZARA Section 6217); OMB Number 2040-0153; on 07/31/2006 OMB extended the expiration date to 10/31/2006.

Dated: August 9, 2006.
Sara Hisel-McCoy,
Acting Director, Collection Strategies Division.

[FR Doc. E6-13865 Filed 8-21-06; 8:45 am]

BILLING CODE 6560-50-P